DEPARTMENT OF THE INTERIOR

Fish and Wildlife Service

Information Collection To Be Submitted to the Office of Management and Budget (OMB) for Approval Under the Paperwork Reduction Act; OMB Control Number 1018-0022, Federal Fish and Wildlife Permit Applications and Reports, Migratory Birds and Eagles

AGENCY: Fish and Wildlife Service, Interior.

ACTION: Notice, request for comments.

SUMMARY: The U.S. Fish and Wildlife Service will submit the collection of information listed below to OMB for approval under the provisions of the Paperwork Reduction Act. An estimate of the information collection burden is included in this notice. If you wish to obtain copies of the proposed information collection requirement, related forms, or explanatory material, contact the Service Information Collection Clearance Officer at the address listed below.

DATES: We will accept comments until January 12, 2004.

ADDRESSES: Send your comments on the requirement to Anissa Craghead, Information Collection Clearance Officer, U.S. Fish and Wildlife Service, ms 222-ARLSQ, 4401 N. Fairfax Drive, Arlington, VA 22203; (703) 358-2269 (fax); or anissa_craghead@fws.gov (e-mail).

FOR FURTHER INFORMATION CONTACT: To request a copy of the information collection request, explanatory information, or related forms, contact Anissa Craghead at (703) 358-2445, or electronically to anissa_craghead@fws.gov.

SUPPLEMENTARY INFORMATION: The Office of Management and Budget (OMB) regulations at 5 CFR part 1320, which implement provisions of the Paperwork Reduction Act of 1995 (44 U.S.C. 3501 et seq.), require that interested members of the public and affected agencies have an opportunity to comment on information collection and recordkeeping activities (see CFR 1320.8(d)). The U.S. Fish and Wildlife Service (We) plan to submit a request to OMB to renew approval of a collection of information for the Service's license/permit application forms for migratory bird and eagle permits.

We are submitting a request to OMB to approve: (1) The revision of the collection of information for many of the migratory bird and eagle applications (3-200-6 through 3-200-18, and 3-200-67 through 3-200-70); report forms 3-202-1 through 3-202-9, and forms 3-186 and 3-186A currently approved under OMB control number 1018-0022; and (2) the addition of forms 3-200-10b.2, and 3-202-10 through 3-202-13.

All of these forms are used by the Regional Migratory Bird Permit Offices. We are requesting a 3-year term of approval for this information collection activity. Federal agencies may not conduct or sponsor, and a person is not required to respond to, a collection of information unless it displays a currently valid OMB control number. The OMB control number for this collection of information is 1018-0022.

Revisions to the currently approved forms include modifications of the format and content of the application forms so that they will be easier to understand and easier for the applicant to complete. Five new forms have been added to the information collection. The Special Canada Goose Permit Annual Report (form 3-202-10) and Eagle Depredation Permit Annual Report (form 3-202-11) forms will simplify the information collection process on the public in terms of reporting requirements for those permits. The Special Purpose Possession (Education) Acquisition and Transfer Request (form 3-202-12) will facilitate Service approval for acquisitions and transfers of birds held for education. The Migratory Bird Donation to Public Institution form (form 3-202-13) will provide a standard form for use by museums and other public scientific and educational institutions to document donations of dead birds salvaged by the general public and deposited with institutions. A completed form 3-202-13 would not be submitted to the Service, except upon special request to the repository institution. The Request for Permission to Release Contact Information About Federally Permitted Migratory Bird Rehabilitators (form 3-200-10b.2) will enable us to ask holders of migratory bird rehabilitation permits for permission to make contact information available to the general public. The new forms are noted in the table below.

The information obtained from the applications and report forms will be used by the Service to determine eligibility of applicants for permits they are requesting according to criteria in various Federal wildlife conservation laws, international treaties, and regulations on the issuance, suspension, revocation, or denial of permits, monitor permit compliance, and track species taken from the wild.

The information collection requirements in this submission implement the regulatory requirements of the Endangered Species Act (16 U.S.C. 1539), the Migratory Bird Treaty Act (16 U.S.C. 704), the Lacey Act (18 U.S.C. 42-44), the Bald and Golden Eagle Protection Act (16 U.S.C. 668), the Convention on International Trade in Endangered Species of Wild Fauna and Flora (CITES) (27 UST 108), and are contained in Service regulations in Chapter I, Subchapter B of Title 50 Code of Federal Regulations (CFR). Generic permit application and record keeping requirements shared by our permit-issuing offices have been consolidated in 50 CFR part 13. The following table lists the application forms, with their respective burden estimates and applicable regulations, that we plan to submit to OMB for approval under the Paperwork Reduction Act.

Activity & application & report form number (* means report form used for more than one permit activity) | Total No. of responses (annually) | Estimated completion time (hr) | Total annual burden hours | Regulatory authority
Import/Export, 3-200-6 | 61 | 1 | 61 | 50 CFR 21.2, 21.11, 21.21
Scientific Collecting, 3-200-7 | 91 | 4 | 364 | 50 CFR 21.2, 21.11, 21.23
Annual Report, 3-202-1 * | 484 | 1 | 484 |
Donation to Public Museum, 3-202-13 (New) | 1,000 | ¹ 0.17 | 170 |
Taxidermy, 3-200-8 | 604 | 1 | 604 | 50 CFR 21.2, 21.11, 21.24
Waterfowl Sale & Disposal, 3-200-9 | 98 | 1 | 98 | 50 CFR 21.2, 21.11, 21.25
Notice of Transfer, 3-186 * | 8,002 | ¹ 0.17 | 1,333 |
Annual Report, 3-202-2 | 1,540 | ⁴ 0.5 | 770 |
Canada Goose, 3-200-57 | 3 | 6 | 18 | 50 CFR 21.2, 21.11, 21.26
Annual Report, 3-202-10 (New) | 3 | 1 | 3 |
Special Purpose Permits
—Salvage, 3-200-10a | 184 | 1 | 184 | 50 CFR 21.2, 21.11, 21.27
Annual Report—Salvage, 3-202-3 | 1,772 | 1 | 1,772 |
—Rehabilitation, 3-200-10b | 129 | 2.5 | 322 |
Permission to Release Information 3-200-10b.2 (New) | 711 | 0.17 | 120 |
Information 3-200-10b.2 (New), | 2,134 | 1.5 | 3,201
Annual Report—Rehab., 3-202-4 | 86 | 2.5 | 215 |
—Education Possession/Live, 3-200-10c | 1,000 | ³ 0.34 | 340 |
Acquisition and Transfer Request, 3-202-12 (New) | 571 | 1 | 571 |
Annual Report—Edu-Poss/Live, 3-202-5 * | 56 | 2 | 112 |
—Education Possession/Dead, 3-200-10d | 167 | 1 | 167 |
Ann. Report—Edu-Poss/Dead, 3-202-5 * | 18 | 1 | 18 |
—Game Bird Propagation, 3-200-10e | 300 | ¹ 0.17 | 50 |
Notice of Transfer, 3-186* | 73 | ⁴ 0.5 | 36 |
Ann. Report—Game Bird Prop | 20 | 1 | 20 |
Falconry, 3-200-11 | 283 | 1 | 283 | 50 CFR 21.2, 21.11, 21.28
Disposition Report, 3-186-A * | 11,000 | ¹ 0.17 | 1,833 |
Raptor Propagation, 3-200-12 | 48 | 1.5 | 72 | 50 CFR 21.2, 21.11, 21.30
Disposition Report, 3-186-A * | 5,000 | ¹0.17 | 833 |
Annual Report—Raptor Prop, 3-202-8 | 389 | 1 | 389 |
Depredation, 3-200-13 | 788 | 1.5 | 1,182 | 50 CFR 21.2, 21.11, 21.41
Annual Report—Depredation, 3-202-9 | 2,542 | 1 | 2,542 |
Bald & Golden Eagle
—Exhibition, 3-200-14a | 31 | 2.5 | 77 | 50 CFR 22.1, 22.2, 22.12, 22.21
Annual Report—Education, 3-202-5 * | 1,743 | 1 | 1,743 |
—Scientific Collecting/Research, 3-200-14b | 2 | 3 | 6 |
Ann. Report—Sci. Collecting, 3-202-1 * | 24 | 1 | 24
Eagle—Native American Religious | 1,083 | ⁴ 0.5 | 541 | 50 CFR 22.1, 22.2, 22.12, 22.22
—Permit Application, Shipping
Request, & Tribal Certification 3-200-15/15a
Take of Depredating Eagles, 3-200-16 | 11 | 1 | 11 | 50 CFR 22.1, 22.2, 22.12, 22.23
Annual Report—Eagle | 11 | 1 | 11 |
Depredation, 3-202-11 (New)
Eagle Falconry, 3-200-17 | 2 | 1 | 2 | 50 CFR 22.1, 22.2, 22.12, 22.24
Take of Golden Eagle Nests, 3-200-18 | 2 | 4 | 8 | 50 CFR 22.1, 22.2, 22.12, 22.25
Renewal of a Permit, 3-200-68 | 7,444 | ² 0.25 | 1,861 | 50 CFR 13.21, 13.22
CITES Import/Export/Eagle Transport for Exhibition/Scientific Research, 3-200-69 | 50 | 1 | 50 | 50 CFR 22.21, 23.11, 23.12, 23.13, 23.15
CITES Import/Export/Eagle Transport for Indian Religious Purposes, 3-200-70 | 250 | 1 | 250 | 50 CFR 22.22, 23.11, 23.12, 23.13, 23.15
Total | 50,037 |  | 22,864 |
¹ 10 minutes.
² 15 minutes.
³ 20 minutes.
⁴ 30 minutes.

OMB Control Number: 1018-0022.

Title: Federal Fish and Wildlife Permit Applications and Reports, Migratory Birds and Eagles.

Service Form Numbers: 3-200-6 through 3-200-18, 3-200-67 through 3-200-70, 3-202-1 through 3-202-13, 3-186, 3-186A.

Description of Respondents: Individuals; zoological parks; museums; universities; scientists; taxidermists; businesses; and State, local, Tribal and Federal governments.

Frequency of Collection: On occasion.

Total Annual Responses: 50,037.

Total Annual Burden Hours: 22,864.

We invite comments concerning this information collection on: (1) Whether the collection of information is necessary for the proper performance of our functions, including whether the information will have practical utility; (2) the accuracy of our estimate of the burden of the collection of information; (3) ways to enhance the quality, utility, and clarity of the information to be collected; and, (4) ways to minimize the burden of the collection of information on respondents. This information collection is part of a system of records covered by the Privacy Act (5 U.S.C. 552(a)).

Dated: October 21, 2003.
Cyndi Perry,
Chief, Branch of Bird Conservation, Division of Migratory Bird Management.

[FR Doc. 03-28386 Filed 11-12-03; 8:45 am]

BILLING CODE 4310-55-P